ENVIRONMENTAL PROTECTION AGENCY

40 CFR Part 52

[Docket No. EPA-R02-OAR-2012-0296, FRL-9670-4]

Notice of Data Availability Supporting Approval and Promulgation of Air Quality Implementation Plans; State of New York; Regional Haze State Implementation Plan and Federal Implementation Plan

AGENCY: Environmental Protection Agency.

ACTION: Notice of data availability (NODA).

SUMMARY: EPA proposed on April 25, 2012 (77 FR 24794) to take action on a revision to the state implementation plan (SIP) addressing regional haze submitted by the State of New York. In that proposal, EPA proposed to address through a Federal Implementation Plan (FIP) certain requirements not addressed in New York's regional haze SIP submission or, alternatively, to approve a substantively identical SIP revision by New York, should the State timely submit such a revision. In two letters dated April 16, 2012, New York submitted additional materials relevant to our proposed action on its regional haze SIP submission, including proposed SIP revisions addressing the requirements for best available retrofit technology controls (BART) for a number of sources. EPA is providing notice of availability of these materials. The comment period on EPA's proposed action on the New York regional haze SIP closes on June 18, 2010.

DATES: Comments must be received on or before June 18, 2012.

ADDRESSES: Submit your comments, identified by Docket ID number EPA-R02-OAR-2012-0296, by one of the following methods:

• www.regulations.gov: Follow the on-line instructions for submitting comments.

• Email: Werner.Raymond@epa.gov.

• Fax: 212-637-3901.

• Mail: Raymond Werner, Chief, Air Programs Branch, Environmental Protection Agency, Region 2 Office, 290 Broadway, 25th Floor, New York, New York 10007-1866.

• Hand Delivery: Raymond Werner, Chief, Air Programs Branch, Environmental Protection Agency, Region 2 Office, 290 Broadway, 25th Floor, New York, New York 10007-1866. Such deliveries are only accepted during the Regional Office's normal hours of operation. The Regional Office's official hours of business are Monday through Friday, 8:30 to 4:30 excluding Federal holidays.

Instructions: Direct your comments to Docket ID No. EPA-R02-OAR-2012-0296. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region II Office, Air Programs Branch, 290 Broadway, 25th Floor, New York, New York 10007-1866. EPA requests, if at all possible, that you contact the individual listed in the FOR FURTHER INFORMATION CONTACT section to view the hard copy of the docket. You may view the hard copy of the docket Monday through Friday, 8 a.m. to 4 p.m., excluding Federal holidays.

FOR FURTHER INFORMATION CONTACT: Robert F. Kelly, State Implementation Planning Section, Air Programs Branch, EPA Region 2, 290 Broadway, New York, New York 10007-1866. The telephone number is (212) 637-4049. Mr. Kelly can also be reached via electronic mail at kelly.bob@epa.gov.

SUPPLEMENTARY INFORMATION: In two submissions dated April 16, 2012, New York State Department of Environmental Conservation submitted two SIP revision requests. The first SIP revision requests that EPA include in New York's Regional Haze SIP the New York State legislation regulating the sulfur content of fuel oil, Bill Number S1145C, which amends the New York Environmental Conservation Law to include a new section 19-0325.

The second SIP revision requests that EPA take action on proposed SIP revisions from New York in parallel with the State's processing of the following draft Title V permits that the State intends to submit as SIP revisions to meet the BART requirement: Bowline Point Generating Station, Danskammer Generating Station, Kodak Operations at Eastman Business Park, Oswego Harbor Power Owens Corning Delmar Plant, and Syracuse Energy Corporation.

New York also requested processing of the following adopted Title V permits implementing BART for the following facilities: 59th Street Station [Con Ed], ALCOA Massena Operations (West Plant), Arthur Kill Generating Station [NRG], EF Barrett Power Station (NG), Holcim (US) Inc-Catskill Plant, International Paper Ticonderoga Mill, Lafarge Building Materials, Lehigh Northeast Cement Northport Power Station (NG), Ravenswood Generating Station [TC], Ravenswood Steam Plant [Con Edison], Roseton Generating Station [Dynegy], and Samuel A Carlson Generating Station [Jamestown Board of Public Utilities (BPU)].

These materials have been placed in the docket for our proposed action on the New York regional haze SIP submission, Docket ID No. EPA-R02-OAR-2012-0296.

EPA was aware that New York State intended to submit additional information relevant to the action EPA was proposing on New York's Regional Haze SIP. EPA, therefore, discussed in its proposal the possible actions EPA would take should this information be timely submitted. EPA included in the record the draft information that New York was in the process of finalizing and submitting as part of its SIP revision. EPA evaluated this draft information as part of the Agency's proposed action on New York's Regional Haze SIP.

EPA is notifying interested parties that EPA's final action will be based on the proposed rulemaking, the additional information identified in this notice of data availability, and an assessment of any public comments that may be received.

Portions of this SIP revision are being proposed under a procedure called parallel processing, whereby EPA proposes rulemaking action concurrently with the state's procedures for amending its regulations. If the proposed revision is substantially changed in areas other than those identified in the proposal, EPA will evaluate those changes and may publish another notice of proposed rulemaking. If no substantial changes are made other than those areas cited in the proposal, EPA will publish a final rulemaking on the revisions.

Authority: 42 U.S.C. 7401 et seq.

Dated: May 1, 2012.
Judith Enck,
Regional Administrator, Region 2.

[FR Doc. 2012-11186 Filed 5-8-12; 8:45 am]

BILLING CODE 6560-50-P